DEPARTMENT OF ENERGY

Federal Energy Regulatory Commission

[Project No. 2299-082; Project No. 14581-002]

Turlock Irrigation District; Modesto Irrigation District; Notice of Environmental Site Review

The Federal Energy Regulatory Commission and Turlock and Modesto Irrigation Districts will conduct an environmental site review of the Don Pedro and La Grange Projects. The projects are located on the Tuolumne River, in Stanislaus and Tuolumne Counties, California.

Date and Time: Wednesday, March 27, 2019, 10:00 a.m.-about 4 p.m. (PDT).

Location: Meet at Don Pedro Recreation Agency Parking Lot, 10200 Bonds Flat Road, La Grange, California 95329.

The site visit is open to the public and resource agencies.

If you plan to attend, please notify Jim Hastreiter, at (503) 552-2760 or james.hastreiter@ferc.gov, no later than March 20, 2019.

Dated: February 27, 2019.
Kimberly D. Bose,
Secretary.

[FR Doc. 2019-04327 Filed 3-8-19; 8:45 am]

BILLING CODE 6717-01-P